DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than November 18, 2013.

Interested persons are invited to submit written comments regarding the subject matter of the investigations to the Director, Office of Trade Adjustment Assistance, at the address shown below, not later than November 18, 2013.

The petitions filed in this case are available for inspection at the Office of the Director, Office of Trade Adjustment Assistance, Employment and Training Administration, U.S. Department of Labor, Room N-5428, 200 Constitution Avenue NW., Washington, DC 20210.

Signed at Washington, DC, this 25th day of October 2013.
Michael W. Jaffe,
Certifying Officer, Office of Trade Adjustment Assistance.

APPENDIX
[54 TAA petitions instituted between 9/23/13 and 10/18/13]
TA-W No. | Subject firm (petitioners) | Location | Date of institution | Date of petition
83102 | Pearl Pressman Liberty Communications Group (Union) | Philadelphia, PA | 09/23/13 | 09/20/13
83103 | EC Pigments USA Inc. (Company) | Fall River, MA | 09/23/13 | 09/20/13
83104 | Rhythm & Hues Studios (State/One-Stop) | El Segundo, CA | 09/24/13 | 09/23/13
83105 | Clear Pine Mouldings (State/One-Stop) | Prineville, OR | 09/24/13 | 09/23/13
83106 | Janesville Acoustics (Union) | Norwalk, OH | 09/24/13 | 09/16/13
83107 | American Sintered Technologies (Workers) | Emporium, PA | 09/24/13 | 09/24/13
83108 | Berkebile Excavating Inc. working on-site at Johnstown Specialty Castings (Workers) | Johnstown, PA | 09/24/13 | 09/23/13
83109 | Jewish Board of Family and Children Services (State/One-Stop) | New York, NY | 09/25/13 | 09/24/13
83110 | TK Holding, Inc. (Company) | San Antonio, TX | 09/25/13 | 08/30/13
83110A | TK Holding, Inc. (Company) | Greensboro, NC | 09/25/13 | 08/30/13
83111 | Seton Identification (State/One-Stop) | Branford, CT | 09/25/13 | 09/24/13
83112 | American Fuji Seal, Inc. (Workers) | Anaheim, CA | 09/25/13 | 09/20/13
83113 | J P Morgan Chase, Consumer Direct, Superstreamline, HIARP Loans (Workers) | Westerville, OH | 09/25/13 | 09/24/13
83114 | Plantronics Inc (Workers) | Santa Cruz, CA | 09/25/13 | 09/24/13
83115 | Lester Electrical (State/One-Stop) | Lincoln, NE | 09/25/13 | 09/24/13
83116 | Print Plus, Inc. (State/One-Stop) | Santa Ana, CA | 09/25/13 | 09/24/13
83117 | Citi Group (Workers) | Fort Mill, SC | 09/25/13 | 09/24/13
83118 | Aleris Specifications Alloys, INC (Union) | Saginaw, MI | 09/26/13 | 09/25/13
83119 | Times Fiber Communications (Company) | Chatham, VA | 09/26/13 | 09/25/13
83120 | CEMEX (Workers) | West Palm Beach, FL | 09/26/13 | 09/20/13
83121 | Parkersburg Bedding LLC (Union) | Parksburg, WV | 09/27/13 | 09/26/13
83122 | YP Holdings LLC (Union) | Saint Louis, MO | 09/27/13 | 09/26/13
83123 | Osram Sylvania, Inc. (State/One-Stop) | Manchester, NH | 09/27/13 | 09/26/13
83124 | Aptuit (State/One-Stop) | Harrisonville, MO | 09/30/13 | 09/27/13
83125 | Acushnet Company (Workers) | New Bedford, MA | 09/30/13 | 09/26/13
83126 | Abbott Laboratories (State/One-Stop) | Temecula, CA | 09/30/13 | 09/27/13
83127 | Robert Bosch Tool Corp, Measuring Tools Unit (Company) | Watseka, IL | 09/30/13 | 09/27/13
83128 | Catalyst Paper (Union) | Snowflake, AZ | 10/17/13 | 10/01/13
83129 | International Paper Company (Workers) | Courtland, AL | 10/17/13 | 10/10/13
83130 | Harte Hanks Shoppers Inc. (State/One-Stop) | Brea, CA | 10/17/13 | 09/30/13
83131 | Boston Scientific (State/One-Stop) | Arden Hills, MN | 10/17/13 | 09/30/13
83132 | Citigroup Inc. (State/One-Stop) | New York, NY | 10/17/13 | 10/11/13
83133 | Philips Lighting Company (Union) | Franklin Park, IL | 10/17/13 | 10/11/13
83134 | Johnson Controls (Workers) | El Paso, TX | 10/17/13 | 10/10/13
83135 | Chippenhook (State/One-Stop) | Lewisville, TX | 10/17/13 | 10/07/13
83136 | Southworth Company (Workers) | Agawam, MA | 10/17/13 | 10/03/13
83137 | W.W. Grainger (State/One-Stop) | Niles, IL | 10/17/13 | 10/10/13
83138 | Cummins Filtration (Company) | Lake Mills, IA | 10/17/13 | 09/30/13
83138A | Leased Workers from Whelan Security (Company) | Lake Mills, IA | 10/17/13 | 09/30/13
83139 | Bloomington Production Operations (Company) | Bloomington, IN | 10/17/13 | 09/30/13
83140 | Dresser-Rand (Workers) | Painted Post, NY | 10/17/13 | 10/03/13
83141 | Pitney Bowes, Inc. (Workers) | Neenah, WI | 10/17/13 | 09/19/13
83142 | JCs 5 Star Outlet (Company) | Columbus, OH | 10/17/13 | 10/04/13
83143 | Caterpillar, Inc. (Workers) | Houston, PA | 10/17/13 | 09/27/13
83144 | Dallco Industries, Inc. (State/One-Stop) | Rockhill Furnace & York, PA | 10/18/13 | 10/01/13
83145 | Westinghouse Fuel Components Facility (Workers) | Windsor, CT | 10/18/13 | 10/17/13
83146 | Toho Tenax America, Inc. (Company) | Rockwood, TN | 10/18/13 | 10/03/13
83147 | Warren Corporation (State/One-Stop) | Stafford Springs, CT | 10/18/13 | 10/17/13
83148 | Premier Pet Products (Company) | Midlothian, VA | 10/18/13 | 10/10/13
83149 | Navistar, Inc (Union) | Fort Wayne, IN | 10/18/13 | 10/09/13
83150 | Advanced Energy (Company) | Bend, OR | 10/18/13 | 10/17/13
83151 | Medtronic (State/One-Stop) | Minneapolis, MN | 10/18/13 | 10/17/13
83152 | Tennessee Apparel Corp. (Company) | Waynesboro, TN | 10/18/13 | 10/03/13
83153 | Motorola Solutions (Workers) | Schaumburg, IL | 10/18/13 | 10/17/13

[FR Doc. 2013-26503 Filed 11-5-13; 8:45 am]

BILLING CODE 4510-FN-P